DEPARTMENT OF TRANSPORTATION

Federal Motor Carrier Safety Administration

[Docket No. FMCSA-2006-25853]

Medical Review Board Meeting

AGENCY: Federal Motor Carrier Safety Administration (FMCSA), United States Department of Transportation (DOT).

ACTION: Notice; Medical Review Board (MRB) public meeting.

SUMMARY: FMCSA announces that its MRB will hold a public meeting. The MRB members will continue deliberations about current FMCSA medical standards, as well as consider recommendations for new science-based standards and guidelines to ensure that the physical condition of drivers is adequate to enable them to safely operate commercial motor vehicles (CMVs) in interstate commerce. In accordance with the Federal Advisory Committee Act (FACA), the meeting is open to the public.

DATES: The MRB meeting will be held from 9 a.m. to 3:30 p.m. on November 1, 2006.

ADDRESSES: The meeting will take place at the U.S. Department of Transportation, 400 Seventh Street, SW., Nassif Building, Rooms PL-6244 and 6248, Washington, DC 20590-0001. The public must enter through the Southwest Visitor Entrance and comply with building security procedures, including provision of appropriate identification prior to being accompanied by a Federal employee to the meeting rooms.

You may submit comments identified by DOT Docket Management System (DMS) Docket Number FMCSA-2006-25853 using any of the following methods:

• Web site: http://dmses.dot.gov/submit. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the Agency name and docket number for this Notice. Note that all comments received will be posted without change to http://dms.dot.gov including any personal information provided. Please see the Privacy Act heading for further information.

Docket: For access to the docket to read background documents or comments received, go to http://dms.dot.gov at any time or Room PL-401 on the plaza level of the Nassif Building, 400 Seventh Street, SW., Washington, DC between 9 a.m. and 5 p.m., Monday through Friday, except Federal holidays. The DMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the U.S. Department of Transportation's complete Privacy Act Statement in the Federal Register published on April 11, 2000 (65 FR 19477; Apr. 11, 2000). This information is also available at http://dms.dot.gov.

FOR FURTHER INFORMATION CONTACT: Dr. Mary D. Gunnels, Chief, Physical Qualifications Division, 202-366-4001, FMCSA, Department of Transportation, 400 Seventh Street, SW., Washington, DC 20590-0001. Office hours are from 8:30 a.m. to 5 p.m. Monday through Friday, except Federal holidays.

Information on Services for Individuals With Disabilities:

For information on facilities or services for individuals with disabilities or to request special assistance at the meeting, contact Kaye Kirby at 202-366-4001.

SUPPLEMENTARY INFORMATION: The preliminary agenda for the meeting includes:

0900-0920 Call to Order, Agenda Review

0920-1000 Methodology of Meta-Analysis

1000-1200 Evidence Report Consensus Statement Presentation Commercial Driving with Diabetes Mellitus

1200-1245 Lunch Break*

1245-1330 Preliminary Report on Schedule II Medications

1330-1415 Data Sources

1415-1500 Public Comment Period

1500-1530 Agenda Setting-January 10, 2007 Other Business

1530 Adjourn

*Breaks will be announced on meeting day and may be adjusted according to schedule changes, other meeting requirements.

Background

The U.S. Secretary of Transportation announced on March 7, 2006, the five medical experts who will serve on FMCSA's new MRB. Section 4116 of the Safe, Accountable, Flexible, Efficient Transportation Equity Act: A Legacy for Users (SAFETEA-LU, Pub. L. 109-59) requires the Secretary of Transportation with the advice of the MRB to “establish, review, and revise medical standards for operators of CMVs that will ensure that the physical condition of operators is adequate to enable them operate the vehicles safely.” FMCSA is planning updates to the physical qualification regulations of commercial motor vehicle (CMV) drivers, and the MRB will provide the necessary science-based guidance to establish realistic and responsible medical standards.

The MRB will operate in accordance with FACA as announced in the Federal Register (70 FR 57642, October 3, 2005). The MRB will be charged initially with the review of all current FMCSA medical standards (49 CFR 391.41), as well as proposing new science-based standards and guidelines to ensure that drivers operating CMVs in interstate commerce, as defined in CFR 390.5, are physically capable of doing so.

Meeting Participation

Attendance is open to all interested parties, including the general public, medical professionals, motor carriers, drivers and representatives of associations. Written comments for the MRB meeting are now being accepted and will continue to be accepted until November 16, 2006. Written comments should include the docket number that is listed in the ADDRESSES section. During the meeting, public oral comments will be accepted for 45 minutes (2:15 p.m. to 3 p.m.). Individual comments may be limited depending on the number of persons who wish to comment. Oral comments will be accepted on a first come, first serve basis as requestors register at the meeting. The comments must directly address relevant medical and scientific issues on the MRB meeting agenda. For more information, please view the following Web site: http://www.fmcsa.dot.gov/mrb.

Issued on: October 6, 2006.
John H. Hill,
Administrator.

[FR Doc. E6-17031 Filed 10-12-06; 8:45 am]

BILLING CODE 4910-EX-P